DEPARTMENT OF THE INTERIOR

National Park Service

Draft General Management Plan/Environmental Impact Statement (GMP/EIS), Saguaro National Park, AZ

AGENCY: National Park Service, Department of the Interior.

ACTION: Notice of intent to prepare an environmental impact statement for a general management plan, Saguaro National Park, Arizona.

SUMMARY: Under the provisions of the National Environmental Policy Act, the National Park Service is preparing an environmental impact statement (EIS) for a general management plan for Saguaro National Park. The environmental impact statement will be approved by the Director, Intermountain Region.

The general management plan (GMP) will establish the overall direction for the park, setting broad management goals for managing the area over the next 15 to 20 years. The plan will prescribe desired resource conditions and visitor experiences that are to be achieved and maintained throughout the park. Based on the desired conditions, the plan will outline the kinds of resource management activities, visitor activities, and developments that would be appropriate in the park. Among the topics that will be addressed are protection of natural and cultural resources, protection of riparian resources, appropriate range of visitor uses, impacts of visitor uses, adequacy of park infrastructure, visitor access to the park, education and interpretive efforts, wilderness suitability, park partnerships, and external pressures on the park. In cooperation with local, State, tribal, and other Federal agencies, attention will also be given to cooperative efforts to address issues that affect the integrity of Saguaro National Park, such as the management of the urban/park interface, traffic congestion in and around the park, fires, threatened and endangered species and their habitat, and biological corridors that lead into and out of the park.

A range of reasonable alternatives for managing the park, including a no-action and preferred alternative, will be developed through the planning process and included in the EIS. The EIS will evaluate the potential environmental impacts of the alternatives.

As the first phase of the planning and EIS process, the National Park Service is beginning to scope the issues to be addressed in the GMP/EIS. All interested persons, organizations, and agencies are encouraged to submit comments and suggestions regarding the issues or concerns the GMP/EIS should address, including the suitable range of alternatives and appropriate mitigating measures, and the nature and extent of potential environmental impacts.

DATES: Written comments on the scope of the general management plan/environmental impact statement will be accepted for 60 days beyond the publication of this notice of intent. In addition, public scoping sessions will be held in Tucson and surrounding communities in the winter of 2003. Locations, dates, and times of these meetings will be provided in local and regional newspapers, and on the Internet at http://www.nps.gov/sagu.

ADDRESSES: Written comments or requests to be added to the project mailing list should be directed to: Sarah Craighead, Superintendent, Saguaro National Park, 3693 S. Old Spanish Trail, Tucson, AZ 85730 telephone (520) 733-5101; e-mail: sagu_information@nps.gov.

FOR FURTHER INFORMATION CONTACT: Superintendent, Sarah Craighead, Superintendent, Saguaro National Park, 3693 S. Old Spanish Trail, Tucson, AZ 85730 telephone (520) 733-5101. General information about Saguaro National Park is available on the Internet at http://www.nps.gov/sagu and http://friendsofsaguaro.org.

SUPPLEMENTARY INFORMATION: Please submit Internet comments as a text file avoiding the use of special characters and any form of encryption. Be sure to include your name and return street address in your Internet message.

Our practice is to make comments, including names and home addresses of respondents, available for public review during regular business hours. Individual respondents may request that their home addresses be withheld from the public record, which will be honored to the extent allowable by law. Requests to withhold names and/or addresses must be stated prominently at the beginning of the comments. However, submissions from organizations or businesses, and from individuals identifying themselves as representatives or officials of organizations or businesses, will be made available for public inspection in their entirety.

Dated: February 3, 2003.
Karen P. Wade,
Director, Intermountain Region.

[FR Doc. 03-8502 Filed 4-7-03; 8:45 am]

BILLING CODE 4310-70-P